DEPARTMENT OF JUSTICE

Drug Enforcement Administration

[Docket No. DEA-392]

Bulk Manufacturer of Controlled Substances Registration

ACTION: Notice of registration.

SUMMARY: Registrants listed below have applied for and been granted registration by the Drug Enforcement Administration (DEA) as bulk manufacturers of various classes of controlled substances.

SUPPLEMENTARY INFORMATION:

The companies listed below applied to be registered as manufacturers of various basic classes of controlled substances. Information on previously published notices is listed in the table below. No comments or objections were submitted for these notices.

Company | FR docket | Published
Noramco, Inc | 81 FR 57936 | August 24, 2016.
Isosciences | 81 FR 61249 | September 6, 2016.
AMRI Rensselaer, Inc | 81 FR 61250 | September 6, 2016.
Halo Pharmaceutical, Inc | 81 FR 63220 | September 14, 2016.
AMPAC Fine Chemicals LLC | 81 FR 63222 | September 14, 2016.
Insys Manufacturing LLC | 81 FR 63221 | September 14, 2016.
Patheon API Manufacturing, Inc | 81 FR 64509 | September 20, 2016.
Euticals Inc | 81 FR 64510 | September 20, 2016.
Nanosyn, Inc | 81 FR 64949 | September 21, 2016.
Cerilliant Corporation | 81 FR 66079 | September 26, 2016.
Research Triangle Institute | 81 FR 91948 | December 19, 2016.
Synthcon LLC | 81 FR 95641 | December 28, 2016.
Navinta LLC | 81 FR 95640 | December 28, 2016.
Johnson Matthey, Inc | 81 FR 95647 | December 28, 2016.
AMRI Rensselaer, Inc | 81 FR 95639 | December 28, 2016.
Cayman Chemical Company | 81 FR 95644 | December 28, 2016.
Cambridge Isotope Laboratories | 81 FR 95644 | December 28, 2016.
Janssen Pharmaceutical, Inc | 81 FR 96045 | December 29, 2016.

The DEA has considered the factors in 21 U.S.C. 823(a) and determined that the registration of these registrants to manufacture the applicable basic classes of controlled substances is consistent with the public interest and with United States obligations under international treaties, conventions, or protocols in effect on May 1, 1971. The DEA investigated each of the company's maintenance of effective controls against diversion by inspecting and testing each company's physical security systems, verifying each company's compliance with state and local laws, and reviewing each company's background and history.

Therefore, pursuant to 21 U.S.C. 823(a), and in accordance with 21 CFR 1301.33, the DEA has granted a registration as a bulk manufacturer to the above listed persons.

Dated: March 17, 2017.
Louis J. Milione,
Assistant Administrator.

[FR Doc. 2017-05727 Filed 3-22-17; 8:45 am]

BILLING CODE 4410-09-P